DEPARTMENT OF ENERGY

Biomass Research and Development Technical Advisory Committee

AGENCY: Energy Efficiency and Renewable Energy, Department of Energy.

ACTION: Notice of open meeting.

SUMMARY: This notice announces an open meeting of the Biomass Research and Development Technical Advisory Committee. The Federal Advisory Committee requires that agencies publish these notices in the Federal Register to allow for public participation.

DATES: August 15, 2017, 1:00 p.m.-5:30 p.m., August 16, 2017, 8:30 a.m.-5:30 p.m.

ADDRESSES: Los Angeles Airport Marriott, 5855 West Century Blvd., Los Angeles, CA 90045.

FOR FURTHER INFORMATION CONTACT: Dr. Mark Elless, Designated Federal Officer for the Committee, Office of Energy Efficiency and Renewable Energy, U.S. Department of Energy, 1000 Independence Avenue SW., Washington, DC 20585; Email: Mark.Elless@ee.doe.gov and Roy Tiley at (410) 997-7778 ext. 220; Email: rtiley@bcs-hq.com.

SUPPLEMENTARY INFORMATION:

Purpose of Meeting: To develop advice and guidance that promotes research and development leading to the production of biobased fuels and biobased products.

Tentative Agenda: Agenda will include the following:

• Update on USDA Biomass R&D Activities

• Update on DOE Biomass R&D Activities

• Presentations on biomass interface with fossil fuels. Topics include gasification, refineries, CO2 utilization, and current activities by the State of California.

Public Participation: In keeping with procedures, members of the public are welcome to observe the business of the Biomass Research and Development Technical Advisory Committee. To attend the meeting and/or to make oral statements regarding any of the items on the agenda, you must contact Dr. Mark Elless at; Email: Mark.Elless@ee.doe.gov and Roy Tiley at (410) 997-7778 ext. 220; Email: rtiley@bcs-hq.com at least 5 business days prior to the meeting. Members of the public will be heard in the order in which they sign up at the beginning of the meeting. Reasonable provision will be made to include the scheduled oral statements on the agenda. The Co-chairs of the Committee will make every effort to hear the views of all interested parties. If you would like to file a written statement with the Committee, you may do so either before or after the meeting. The Co-chairs will conduct the meeting to facilitate the orderly conduct of business.

Minutes: The summary of the meeting will be available for public review and copying at http://biomassboard.gov/committee/meetings.html.

Issued at Washington, DC, on July 27, 2017.
LaTanya R. Butler,
Deputy Committee Management Officer.

[FR Doc. 2017-16234 Filed 8-1-17; 8:45 am]

BILLING CODE 6450-01-P